NATIONAL SCIENCE FOUNDATION

Sunshine Act Meeting

The National Science Board's Awards and Facilities Committee hereby gives notice of the scheduling of a teleconference for the transaction of National Science Board business pursuant to the National Science Foundation Act and the Government in the Sunshine Act.

TIME AND DATE: Friday, April 29, 2022, from 12:00-2:30 p.m. EDT.

PLACE: This meeting will be held by teleconference through the National Science Foundation.

STATUS: Closed.

MATTERS TO BE CONSIDERED: The agenda of the teleconference is: Committee Chair's Opening Remarks; Schedule of Future Information, Context, and Action Items; Approval of Prior Minutes; Context Item: Inclusion of Leadership-Class Computing Facility in a Future MREFC Budget; Context Item: NOIRLab Operations & Maintenance Award; Context Item: Mag Lab Operations & Maintenance Award; Written Context Item: Regional Class Research Vessel Management Reserve.

CONTACT PERSON FOR MORE INFORMATION: Point of contact for this meeting is: Michelle McCrackin, mmccrack@nsf.gov, (703) 292-7000. Meeting information and updates may be found at www.nsf.gov/nsb.

Chris Blair,
Executive Assistant to the National Science Board Office.

[FR Doc. 2022-09040 Filed 4-25-22; 8:45 am]

BILLING CODE 7555-01-P